DEPARTMENT OF COMMERCE

International Trade Administration

[A-570-886]

Polyethylene Retail Carrier Bags From the People's Republic of China: Notice of Partial Rescission of Antidumping Duty Administrative Review

AGENCY: Import Administration, International Trade Administration, Department of Commerce.

SUMMARY: In response to requests from interested parties, the Department of Commerce (“the Department”) initiated an administrative review of the antidumping duty order on the polyethylene retail carrier bags (“PRCBs”) from the People's Republic of China (“PRC”), covering the period January 26, 2004, through July 31, 2005. Based on the withdrawal of requests for review with respect to certain companies, we are rescinding, in part, this administrative review.

EFFECTIVE DATE: May 24, 2006.

FOR FURTHER INFORMATION CONTACT: Charles Riggle at (202) 482-0650, Laurel LaCivita at (202) 482-4243 or Matthew Quigley at (202) 482-4551, Import Administration, Room 1870, International Trade Administration, U.S. Department of Commerce, 14th Street and Constitution Avenue, NW, Washington, DC 20230.

SUPPLEMENTARY INFORMATION:

Background

On August 1, 2005, the Department of Commerce (“the Department”) published a notice of opportunity to request an administrative review of the antidumping duty order on PRCBs from the PRC. See Antidumping or Countervailing Duty Order, Finding, or Suspended Investigation: Opportunity to Request Administrative Review, 70 FR 44085 (August 1, 2005). We received timely requests for review from Crown Polyethylene Products (Int'l) Ltd. (“Crown”), Dongguan Nozawa Plastics and United Power Packaging (collectively “Nozawa”), High Den Enterprises Ltd (“High Den”), Rally Plastics Co., Ltd. (“Rally”), Sea Lake Polyethylene Enterprise Ltd. and Shanghai Glopack, Inc. (“Sea Lake/Glopack”), and Shanghai New Ai Lian Import and Export Co., Ltd. (“Shanghai New Ai Lian”). Ampac Packaging (Nanjing) Co., (“Ampac”), requested a new shipper review or, alternatively, an administrative review. On September 30, 2005, the Department denied Ampac a new shipper review.

On September 28, 2005, the Department published a notice of the initiation of the antidumping duty administrative review of PRCBs from the PRC for the period January 26, 2004, through July 31, 2005. See Notice Initiation of Antidumping and Countervailing Duty Administrative Reviews and Request for Revocation in Part, 70 FR 56631 (September 28, 2005). On October 25, 2005, the Department initiated an administrative review for Ampac. See Initiation of Antidumping and Countervailing Duty Administrative Reviews, 70 FR 61601 (October 25, 2005), as corrected by Initiation of Antidumping and Countervailing Duty Administrative Reviews and Deferral of Administrative Reviews, 70 FR 72107 (December 1, 2005).

On November 16, 2005, Shanghai New Ai Lian withdrew its request for an administrative review. On November 22, 2005, Rally withdrew its request for an administrative review. On December 27, 2005, Sea Lake/Glopack withdrew their requests for an administrative review. On February 23, 2006, Ampac withdrew its request for a review.

Rescission of Review

The Department's regulations, at 19 CFR 351.213(d)(1), provide that the Department will rescind an administrative review if the party that requested the review withdraws its request for review within 90 days of the date of publication of the notice of initiation of the requested review, or withdraws its request at a later date if the Department determines that it is reasonable to extend the time limit for withdrawing the request. Rally, Shanghai New Ai Lian, and Sea Lake/Glopack all withdrew their requests within the 90-day limit. Therefore, the Department will rescind the review as to these companies. Ampac withdrew its request after the 90-day deadline. However, consistent with the Department's practice, the Department finds it reasonable to extend the withdrawal deadline because the Department has not yet devoted considerable time and resources to this review. See Honey from the People's Republic of China: Notice of Partial Rescission of Antidumping Duty Administrative Review, 70 FR 42032 (July 21, 2005); See also, Certain Cut-to-Length Carbon Steel Plate From the People's Republic of China: Notice of Rescission of Antidumping Duty Administrative Review, 70 FR 44560 (August 3, 2005); and Notice of Rescission of Antidumping Duty Administrative Review: Petroleum Wax Candles from the People's Republic of China, 70 FR 33733 (June 9, 2005). Further, we find that Ampac's withdrawal does not constitute an abuse of our procedures. Therefore, we are partially rescinding this review of the antidumping duty order on polyethylene retail carrier bags from the PRC covering the period January 26, 2004, through July 31, 2005. The Department will issue appropriate assessment instructions for Sea Lake/Glopack, Shanghai New Ai Lian, Rally and Ampac directly to U.S. Customs and Border Protection within 15 days of publication of this rescission.

Notification Regarding APOs

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction. This notice is issued and published in accordance with section 777(i)(1) of the Tariff Act of 1930, as amended, and 19 CFR 351.213(d)(4).

Dated: May 17, 2006.
Stephen J. Claeys,
Deputy Assistant Secretary for Import Administration.

[FR Doc. E6-7965 Filed 5-23-06; 8:45 am]

BILLING CODE 3510-DS-S